NATIONAL FOUNDATION FOR THE ARTS AND THE HUMANITIES

National Endowment for the Arts

National Council on the Arts 151st Meeting

Pursuant to section 10 (a)(2) of the Federal Advisory Committee Act (Pub. L. 92-463), as amended, notice is hereby given that a meeting of the National Council on the Arts will be held on March 31, 2004 from 9 a.m.-12:15 p.m. (ending time is tentative) in Room M-09 at the Nancy Hanks Center, 1100 Pennsylvania Avenue, NW., Washington, DC 20506.

This meeting will be open to the public on a space available basis. The meeting will begin with opening remarks and updates presented by the Chairman, after which new Council members will be sworn in. This will be followed by a Congressional/White House update and an update on the NEA Jazz Masters Initiative. There will be a presentation by Jeff Speck (NEA Design Director), the Honorable Joe Riley (Mayor of Charleston, SC), and Julie Bargmann (landscape architect) on the Mayors' Institute on City Design. The meeting will also include application review (Challenge America-Access, Heritage & Preservation, State and Regional Partnership Agreements, Folk & Traditional Arts Infrastructure, National Heritage Fellowships, Arts on Radio and Television, and Leadership Initiatives) and review of Guidelines (Arts on Radio and Television, National Heritage Fellowships, NEA Jazz Masters Fellowships, and Partnership Agreements). The meeting will conclude with general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications or fellowship nominations, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: March 3, 2004.
Kathy Plowitz-Worden,
Panel Coordinator, Office of Guidelines and Panel Operations.

[FR Doc. 04-5134 Filed 3-5-04; 8:45 am]

BILLING CODE 7537-01-P